DEPARTMENT OF ENERGY

Federal Energy Regulatory Commission

[Docket Nos. PR06-4-000 and PR06-4-001]

J-W Pipeline Company; Notice of Shortened Comment Period

April 6, 2006.

Take notice that on April 4, 2006, J-W Pipeline Company filed an Offer of Settlement in the above-docketed proceeding. Included in its filing was a request to shorten the period for filing initial and reply comments in response to the Offer of Settlement.

Because no protests were filed in this docket and the Commission Staff supports the Offer of Settlement, we are shortening the date for filing initial comments to and including April 11, 2006. Reply comments should be filed on or before April 13, 2006.

Magalie R. Salas,
Secretary.

[FR Doc. E6-5448 Filed 4-12-06; 8:45 am]

BILLING CODE 6717-01-P